Title 3—

The President

Proclamation 8754 of November 15, 2011

America Recycles Day, 2011

By the President of the United States of America

A Proclamation

As Americans, we have a responsibility to ensure future generations benefit from an abundance of natural resources and a healthy planet. To meet this obligation, we must take steps to consume carefully, recycle a wide variety of products and materials, and reuse whenever possible. On America Recycles Day, we celebrate the commitment of individuals across our country to live sustainably, and we rededicate ourselves to thoughtful resource management at home and in the workplace.

For decades, American families have advanced the common good of our Nation by recycling regularly and promoting conservation. During the First and Second World Wars, families participated in scrap drives, gathering cloth, paper, and metals for reuse in manufacturing that helped fuel our military and our economic growth. Since then, we have bolstered recycling programs through individual action, community engagement, and national initiatives, and we have broadened our efforts to include a vast array of pioneering industrial processes that will drive our clean economy and create green jobs. These advances cut waste, preserve our natural bounty, and spur the robust and sustainable economic growth that will carry us through this century and into the next.

To meet the economic and environmental challenges that confront our country today, we must update and expand existing recycling programs and dedicate ourselves to devising new strategies to accommodate emerging technologies. Our Nation generates over two million tons of used electronics annually, and without following proper recycling and management practices, the disposal of our old computers, monitors, and cell phones can release toxic materials into our environment, endanger human health, and prevent the recovery and reuse of valuable resources. For the well-being of our people and our planet, we must consider the full lifecycle impacts of our products and strive to manage our resources in a sustainable way.

To ensure America remains a global leader in developing new, sustainable electronics technologies, my Administration launched the National Strategy for Electronics Stewardship earlier this year. The strategy establishes a framework for responsible electronics design, purchasing, management, and recycling that will accelerate our burgeoning electronics recycling market and create jobs for the future here at home. To lead by example, my Administration is committed to efficient use, reuse, and proper disposal of electronics within the Federal Government, and we are collaborating with certified recycling centers to handle and dispose of used electronics safely and effectively. We are also forging new partnerships with the private sector that will advance electronics recycling across our country. Through collaboration and shared responsibility, we are protecting public health, preserving environmental quality, and laying the foundation for a 21st-century economy.

America Recycles Day offers us an opportunity to reflect on the remarkable strides we have made in the pursuit of sustainability, and to challenge ourselves to do even more. As we rise to meet this challenge, we fulfill a promise to our children that they will inherit a world more beautiful and prosperous than the one we received.

NOW, THEREFORE, I, BARACK OBAMA, President of the United States of America, by virtue of the authority vested in me by the Constitution and the laws of the United States, do hereby proclaim November 15, 2011, as America Recycles Day. I call upon the people of the United States to observe this day with appropriate programs and activities, and I encourage all Americans to continue their recycling efforts throughout the year.

IN WITNESS WHEREOF, I have hereunto set my hand this fifteenth day of November, in the year of our Lord two thousand eleven, and of the Independence of the United States of America the two hundred and thirty-sixth.

[FR Doc. 2011-30068

Filed 11-17-11; 11:15 am]

Billing code 3295-F2-P